DEPARTMENT OF TRANSPORTATION

Federal Aviation Administration

Public Notice for Waiver of Aeronautical Land-Use Assurance; Indianapolis International Airport, Indianapolis, IN

AGENCY: Federal Aviation Administration, DOT.

ACTION: Notice of intent of waiver with respect to land.

SUMMARY: The Federal Aviation Administration (FAA) is considering a proposal to change a portion of the airport from aeronautical use to non-aeronautical use and to authorize the release of 13.992 acres of vacant airport property for highway development. The land consists of portions of eight original airport acquired parcels. These parcels were acquired under grants: FAAP 9-12-008-10, FAAP 9-12-008-12, ADAP 6-18-0038-01, ADAP 6-18-0038-02, AIP 3-18-0038-54 or without Federal participation. There are no impacts to the airport by allowing the Indianapolis Airport Authority to dispose of the property. The land is not needed for aeronautical use. Approval does not constitute a commitment by the FAA to financially assist in the sale or lease of the subject airport property nor a determination of eligibility for grant-in-aid funding from the FAA.

In accordance with section 47107(h) of title 49, United States Code, this notice is required to be published in the Federal Register 30 days before modifying the land-use assurance that requires the property to be used for an aeronautical purpose.

DATES: Comments must be received on or before March 3, 2010.

ADDRESSES: Written comments on the Sponsor's request must be delivered or mailed to: Melanie Myers, Program Manager, Chicago Airports District Office, 2300 East Devon Avenue, Des Plaines, IL 60018.

FOR FURTHER INFORMATION CONTACT: Melanie Myers, Program Manager, Federal Aviation Administration, Great Lakes Region, Chicago Airports District Office, CHI-ADO 609, 2300 East Devon Avenue, Des Plaines, IL 60018 Telephone Number (847-294-7525)/FAX Number (847-294-7046). Documents reflecting this FAA action may be reviewed at this same location or at Indianapolis International Airport, Indianapolis, Indiana.

SUPPLEMENTARY INFORMATION: Parcel 99: A part of the West Half of Southwest Quarter of Section 25, Township 15 North, Range 3 East in Marion County, Indiana and being that part of the granter's land lying within the right-of-way lines depicted on the attached Right-of-Way Parcel Plat marked Exhibit “B”, described as follows: Commencing at the southwest corner of said half quarter section; thence North 88 degrees 37 minutes 37 seconds East 1,328.93 feet along the south line of said quarter section to the prolonged west boundary of I-465; thence North 0 degrees 19 minutes 10 seconds West 59.82 feet along the prolonged west boundary of said I-465 to the point of beginning of this description, which point is where the west boundary of said I-465 meets the north boundary of Hanna Avenue; thence South 90 degrees 00 minutes 00 seconds West 12.86 feet along the north boundary of Hanna Avenue to point “98008” designated on said plat; thence North 6 degrees 30 minutes 58 seconds West 197.03 feet to point “98002” designated on said plat; thence North 3 degrees 28 minutes 32 seconds West 484.17 feet to point “98001” designated on said plat; thence North 12 degrees 12 minutes 50 seconds West 47.06 feet to the north line of the grantor's land; thence North 88 degrees 37 minutes 37 seconds East 58.00 feet along said north line to the west boundary of said I-465; thence South 2 degrees 09 minutes 28 seconds East 390.53 feet along the boundary of said I-465 thence South 0 degrees 18 minutes 49 seconds East 336.28 feet along said boundary to the point of beginning and containing 0.647 acres, more or less.

Parcel 99A: A part of the West Half of the Southwest Quarter of Section 25, Township 15 North, Range 3 East, in Marion County, and being that part of the grantor's land lying within the right-of-way lines depicted on the attached Right-of-Way Parcel Plat marked Exhibit “B” described as follows: Commencing at the southwest corner of said half quarter section, thence North 0 degrees 04 minutes 10 seconds West 20.31 feet along the west line of said section to the prolonged north boundary of Hanna Avenue; thence North XX degrees 39 minutes 19 seconds East 415.42 feet along the prolonged boundary of said Hanna Avenue and along the north boundary of said Hanna Avenue to the point of beginning of this description, designated as point “98006” on said plat: thence North 61 degrees 16 minutes 55 seconds East 56.32 feet to point “98005” designated on said plat; thence North 84 degrees 42 minutes 35 seconds East 288.96 feet to the north boundary of Hanna Avenue designated as point “98004” on said plat; thence South 9 degrees 45 minutes 49 seconds West 26.23 feet along the boundary of said Hanna Avenue; thence South 79 degrees XX minutes 37 seconds West 131.31 feet along said boundary; thence South 89 degrees XX minutes 19 seconds West 203.46 feet along said boundary to the point of beginning and containing 0.218 acres, more or less.

Parcel 13E: A part of the Southwest Quarter of Section 13 and a part of the Northwest Quarter of Section 24, all in Township 15 North, Range 2 East, Marion County, Indiana, and being that part of the grantor's land lying within the right-of-way lines depicted on the attached Right-of-Way Parcel Plat marked EXHIBIT “B”, described as follows: Beginning at a point on the south line of said Section 13 North 88 degrees 50 minutes 02 seconds East 1,378.87 feet from the southwest corner of said Section 13, which point of beginning is on the west boundary of I-465; thence South 21 degrees 28 minutes 28 seconds West 10.33 feet along the boundary of said I-465; thence South 0 degrees 05 minutes 18 seconds East 367.01 feet along said boundary; thence South 3 degrees 25 minutes 31 seconds West 394.20 feet along said boundary; thence along said boundary Southwesterly 435.19 feet along an arc to the right having a radius of 661.18 feet and subtended by a long chord having a bearing of South 19 degrees 58 minutes 17 seconds West and a length of 427.37 feet to point “1030113” designated on said plat; thence North 19 degrees 00 minutes 41 seconds East 423.57 feet to point “1030114” designated on said plat; thence North 0 degrees 13 minutes 26 seconds East 3,391.47 feet to point “51419” designated on said plat on the southern boundary of Minnesota Street; thence along the boundary of said Minnesota Street Northeasterly 26.69 feet along an arc to the right having a radius of 355.00 feet and subtended by a long chord having a bearing of North 82 degrees 19 minutes 01 seconds East and a length of 26.69 feet to the west boundary of said I-465; thence South 1 degree 29 minutes 51 seconds East 318.45 feet along the boundary of said I-465; thence South 2 degrees 38 minutes 18 seconds East 120.15 feet along said boundary; thence South 0 degrees 29 minutes 32 seconds East 240.02 feet along said boundary; thence South 0 degrees 13 minutes 26 seconds West 1,295.65 feet along said boundary; thence South 0 degrees 13 minutes 26 seconds West 126.35 feet along said boundary; thence South 3 degrees 05 minutes 11 seconds West 200.25 feet along said boundary; thence South 0 degrees 13 minutes 26 seconds West 315.00 feet along said boundary; thence South 21 degrees 28 minutes 28 seconds West 8.99 feet along said boundary to the point of beginning and containing 2.486 acres, more or less in said Section 13, and containing 0.691 acres, more or less, in said section 24; and containing in all 3.177 acres more or less.

Parcel 13F: A part of the Northwest Quarter of Section 13, Township 15 North, Range 2 East, Marion County, Indiana, and being that part of the grantor's land lying within the right-of-way lines depicted on the attached Right-of-Way Parcel Plat marked EXHIBIT “B”, described as follows: Commencing at the southwest corner of said quarter section; thence North 88 degrees 44 minutes 08 seconds East 1,365.63 feet along the south line of said quarter section to the west boundary of I-465; thence North 5 degrees 30 minutes 56 seconds East 20.80 feet along the boundary of said I-465; thence North 0 degrees 13 minutes 26 seconds East 24.71 feet along said boundary to the northern boundary of Minnesota Street and the point of beginning of this description: thence along the boundary of said Minnesota Street Southwesterly 22.12 feet along an arc to the left having a radius of 445.00 feet and subtended by a long chord having a bearing of South 84 degrees 17 minutes 11 seconds West and a length of 22.12 feet to point “35154” designated on said plat; thence North 0 degrees 13 minutes 26 seconds East 119.31 feet to point “35155” designated on said plat on the southern line of CSX Railroad; thence North 71 degrees 57 minutes 42 seconds East 23.17 feet along said southern line to the west boundary of said I-465; thence South 0 degrees 13 minutes 26 seconds West 124.29 feet along the boundary of said I-465 to the point of beginning and containing 0.061 acres, more or less.

Parcel 13G: A part of Lots 253 to 259, both inclusive in Arthur V. Brown's Second Section Western Heights, an Addition to the City of Indianapolis, Indiana, the plat of which is recorded in Plat Book 15, pager 152, in the Office of the Recorder of Marion County, Indiana, and being that part of the grantor's land lying within the right-of-way lines depicted on the attached Right-of-Way Parcel Plat marked EXHIBIT “B”, described as follows: Beginning at a point on the south line of said Lots 253 South 89 degrees 17 minutes 57 seconds West 11.49 feet from the southeast corner of said Lot 253, which point of beginning is on the west boundary of Lawndale Avenue; thence South 89 degrees 17 minutes 57 seconds West 72.51 feet along said south line to point “51430” designated on said parcel plat; thence North 0 degrees 13 minutes 26 seconds East 420.01 feet to the point “51437” designated on said parcel plat on the north line of said Lot 259; thence North 89 degrees 17 minutes 57 seconds East 72.51 feet along said north line to the west boundary of said Lawndale Avenue; thence South 0 degrees 13 minutes 26 seconds West 420.01 feet along the boundary of said Lawndale Avenue to the point of beginning and containing 30,451 square feet, more or less.

Parcel 13H: A part of Lots 260 to 264, both inclusive, in Arthur V. Brown's Section Western Heights, an Addition to the City of Indianapolis, Indiana, the plat of which is recorded in Plat Book 15, page 152 in the Office of the Recorder of Marion County, Indiana, and being that part of the grantor's land lying within the right-of-way lines depicted on the attached Right-of-Way Parcel Plat marked EXHIBIT “B”, described as follows: Beginning at a point on the south line of said Lot 260 South 89 degrees 17 minutes 57 seconds West 10.44 feet from the southeast corner of said Lot 260, which point of beginning is on the west boundary of Lawndale Avenue; thence South 89 degrees 17 minutes 57 seconds West 72.51 feet along said south line to point “51438” designated on said parcel plat; thence North 0 degrees 13 minutes 26 seconds East 300.01 feet to point “51433” designated on said parcel plat on the north line of said Lot 264; thence North 89 degrees 17 minutes 57 seconds East 42.50 feet along said north line to the western boundary of said Lawndale Avenue; thence South 26 degrees 31 minutes 35 seconds East 66.65 feet along the boundary of said Lawndale Avenue to the south line of said Lot 264; thence South 0 degrees 13 minutes 26 seconds West 240.01 feet along said boundary to the point of beginning and containing 23,851 square feet, more or less.

Parcel 105: A part of the Northwest Quarter and part of the Southwest Quarter of Section 24, and a part of the Northwest Quarter and a part of the Southwest Quarter of Section 25; all in Township 15 North, Range 2 East, Marion County, Indiana, and being that part of the grantor's land lying within the right-of-way lines depicted on the attached Right-of-Way Parcel Plat marked EXHIBIT “B”, described as follows: Beginning at a point on the west line of said Section 25 South 0 degrees 04 minutes 10 seconds East 250.84 feet from the southwest corner of the Northwest Quarter of said Section 25 designated “101025” on said plat; thence North 89 degrees 16 minutes 45 seconds East 146.80 feet to point “101026” designated on said plat; thence Northeasterly 730.77 feet along an arc to the left having a radius of 721.00 feet and subtended by a long chord having a bearing of North 60 degrees 14 minutes 35 seconds East and a length of 699.89 feet to point “101027” designated on said plat; thence North 31 degrees 12 minutes 25 seconds East 514.66 feet to point “40558” designated on said plat; thence Northeasterly 911.91 feet along an arc to the left having a radius of 1,821.00 feet and subtended by a long chord having a bearing of North 16 degrees 51 minutes 39 seconds East and a length of 902.41 feet to point “40066” designated on said plat; thence North 2 degrees 32 minutes 51 seconds East 752.51 feet to point “40507” designated on said plat; thence North 1 degree 16 minutes 19 seconds East 328.05 feet to point “40508” designated on said plat; thence North 0 degrees 13 minutes 26 seconds East 2,178 feet to point “40086” designated on said plat; thence North 1 degree 45 minutes 04 seconds West 58.03 feet to point “40087” designated on said plat; thence North 5 degrees 42 minutes 27 seconds West 77.41 feet to point “40088” designated on said plat; thence North 0 degrees 13 minutes 26 seconds East 255.00 feet to point “40089” designated on said plat; thence North 10 degrees 09 minutes 01 second East 40.61 feet to point “40090” designated on said plat; thence North 12 degrees 05 minutes 03 seconds West 56.29 feet to point “40091” designated on said plat; thence North 3 degrees 14 minutes 39 seconds West 165.30 feet to point “40092” designated on said plat; thence North 22 degrees 36 minutes 35 seconds West 103.08 feet to point “40093” designated on said plat; thence North 35 degrees 36 minutes 49 seconds West 111.02 feet to point “40094” designated on said plat; thence North 47 degrees 29 minutes 45 seconds West 170.94 feet to the southwestern boundary of the Sam Jones Expressway—I-465 interchange designated as point “40516” on said plat; thence along the boundary of said Sam Jones Expressway—I-465 interchange Southeasterly 524.85 feet along an arc to the right having a radius of 505.96 feet and subtended by a long chord having a bearing of South 30 degrees 31 minutes 16 seconds East and a length of 501.64 feet to the western boundary of I-465 thence South 11 degrees 47 minutes 29 seconds East 96.15 feet along the boundary of said I-465; thence South 1 degree 39 minutes 27 seconds East 274.15 feet along said boundary; thence South 0 degrees 13 minutes 26 seconds West 226.00 feet along said boundary; thence South 0 degrees 00 minutes 45 seconds West 271.00 feet along said boundary; thence South 0 degrees 13 minutes 26 seconds West 29.00 feet along said boundary; thence South 0 degrees 27 minutes 49 seconds West 239.00 feet along said boundary; thence South 0 degrees 13 minutes 26 seconds West 461.00 feet along said boundary; thence South 0 degrees 30 minutes 03 seconds West 207.00 feet along said boundary; thence South 0 degrees 03 minutes 10 seconds West 669.00 feet along said boundary; thence South 0 degrees 14 minutes 01 seconds West 21.47 feet along said boundary; thence South 0 degrees 59 minutes 38 seconds West 1,322.37 feet along said boundary; thence South 1 degree 20 minutes 13 seconds East 278.46 feet along said boundary to the northwestern boundary of the I-70—I-465 interchange; thence along the boundary of said I-70 I-465 interchange Southwesterly 355.49 feet along an arc to the right having a radius of 666.20 feet and subtended by a long chord having a bearing of South 17 degrees 01 minutes 33 seconds West and a length of 351.29 feet; thence South 24 degrees 47 minutes 18 seconds West 76.28 feet along said boundary; thence South 32 degrees 19 minutes 17 seconds West 76.28 feet along said boundary; thence South 32 degrees 19 minutes 17 seconds West 600.00 feet along said boundary; thence South 36 degrees 36 minutes 38 seconds West 200.56 feet along said boundary; thence South 28 degrees 39 minutes 43 seconds West 156.67 feet along said boundary; thence along said boundary Southwesterly 610.17 feet along an arc to the right having a radius of 671.20 feet and subtended by a long chord having a bearing of South 58 degrees 24 minutes 9 seconds West and a length of 589.37 feet to the north boundary of I-70; thence South 87 degrees 53 minutes 49 seconds West 185.37 feet along the boundary of said I-70 to the west line of the Southwest Quarter of said Section 25; thence North 0 degrees 04 minutes 10 seconds West 188.80 feet along said west line to the point of beginning and containing 6.716 acres, more or less, in said Section 25, and containing 1.789 acres, more or less, in said Section 24; and containing in all 8.505 acres, more or less.

Parcel 105B: A part of the East Half of the Northeast Quarter of Section 14, Township 15 North, Range 2 East, Marion County, Indiana, and being that part of the grantor's land lying within the right-of-way lines depicted on the attached Right-of Way Parcel Plat marked EXHIBIT “B”, described as follows: Commencing at the southeast corner of said quarter section; thence North 0 degrees 05 minutes 34 seconds East 730.26 feet along the east line of said quarter section; thence North 89 degrees 22 minutes 24 seconds West 28.00 feet to point “51463” designated on said plat on the west boundary of High School Road and the point of beginning of this description: thence North 89 degrees 2 minutes 24 seconds West 9.381 feet to point “51460” designated on said plat; thence North 3 degrees 39 minutes 45 seconds West 200.56 feet to point “51461” designated on said plat; thence North 3 degrees 11 minutes 15 seconds West 103.91 feet to the north line of the grantor's land; thence North 88 degrees 15 minutes 36 seconds East 28.91 feet along said north line to the west boundary of said High School Road; thence South 0 degrees 05 minutes 34 seconds West 304.88 feet along the boundary of said High School Road to the point of beginning and containing 0.137 acres, more or less.

Issued in Des Plaines, Illinois on January 19, 2010.
James G. Keefer,
Manager, Chicago Airports District Office, FAA, Great Lakes Region.

[FR Doc. 2010-2006 Filed 1-29-10; 8:45 am]

BILLING CODE 4910-13-P